DEPARTMENT OF LABOR

Employment and Training Administration

Notice of Availability of Funds and Solicitation for Grant Applications for the Trade Adjustment Assistance Community College and Career Training Grants Program

AGENCY: Employment and Training Administration, Labor.

ACTION: Notice of Solicitation for Grant Applications (SGA). Funding Opportunity Number: SGA/DFA PY-13-10.

SUMMARY: The Employment and Training Administration (ETA), U.S. Department of Labor (DOL, or the Department), announces the availability of approximately $450 million in grant funds authorized for the Trade Adjustment Assistance Community College and Career Training (TAACCCT) Grant Program.

The TAACCCT program seeks to increase the number of workers who attain certificates, degrees, and other industry-recognized credentials, helping to meet President Obama's college graduation goal of increasing the percentage of adults with a post-secondary credential by 2020. The overarching goals of the program are to: (1) Increase attainment of degrees, certifications, certificates, diplomas, and other industry-recognized credentials that match the skills needed by employers to better prepare workers eligible for training under the Trade Adjustment Assistance (TAA) for Workers Program (“TAA-eligible workers”) of chapter 2 of title II of the Trade Act of 1974, 19 U.S.C. 2271-2323, and other adults for high-wage, high-skill employment or re-employment in growth industry sectors; (2) introduce or replicate innovative and effective methods for designing and delivering instruction that address specific industry needs and lead to improved learning, completion, and other outcomes for TAA-eligible workers and other adults; and (3) demonstrate improved employment outcomes.

The Department intends to make grant awards to eligible single institution applicants ranging from approximately $2,260,000 to $2,500,000, up to a total of approximately $150 million. Under this SGA, DOL intends to make approximately 15 to 25 grant awards to consortia of eligible institutions, up to a total of approximately $300 million in grant awards to consortium applicants. The Department will provide two tiers of funding for consortium grant awards, based on the number of institutions in the consortium.

The complete SGA and any subsequent SGA amendments in connection with this solicitation are described in further detail on ETA's Web site at http://www.doleta.gov/grants/ or on http://www.grants.gov. The Web sites provide application information, eligibility requirements, review and selection procedures, and other program requirements governing this solicitation.

DATES: The closing date for receipt of applications under this announcement is July 7, 2014. Applications must be received no later than 4:00:00 p.m. Eastern Time.

FOR FURTHER INFORMATION CONTACT: Melissa Abdullah, 200 Constitution Avenue NW., Room N-4716, Washington, DC 20210; Telephone: 202-693-3346.

Signed: April 17, 2014 in Washington, DC.
Donna Kelly,
Grant Officer, Employment and Training Administration.

[FR Doc. 2014-09514 Filed 4-25-14; 8:45 am]

BILLING CODE 4510-FN-P